ENVIRONMENTAL PROTECTION AGENCY

40 CFR Part 52

[EPA-R03-OAR-2010-0847; FRL-9697-8]

Approval and Promulgation of Air Quality Implementation Plans; Delaware; Control Technique Guidelines for Plastic Parts, Metal Furniture, Large Appliances, and Miscellaneous Metal Parts

AGENCY: Environmental Protection Agency (EPA).

ACTION: Proposed rule.

SUMMARY: EPA is proposing to approve revisions to the Delaware State Implementation Plan (SIP) submitted by the Delaware Department of Natural Resources and Environmental Control (DNREC) on April 1, 2010 and March 9, 2012. These SIP revisions consist of amendments to Delaware's regulation for the Control of Volatile Organic Compounds (VOC) and meet the requirement to adopt reasonably available control technology (RACT) for sources covered by EPA's Control Techniques Guidelines (CTG) standards for the following categories: Plastic Parts, Metal Furniture, Large Appliances, and Miscellaneous Metal Parts. These amendments will reduce emissions of VOC from these source categories and help Delaware attain and maintain the national ambient air quality standard (NAAQS) for ozone. This action is being taken under the Clean Air Act (CAA).

DATES: Written comments must be received on or before August 13, 2012.

ADDRESSES: Submit your comments, identified by Docket ID Number EPA-R03-OAR-2010-0847 by one of the following methods:

A. www.regulations.gov. Follow the on-line instructions for submitting comments.

B. Email: mastro.donna@epa.gov.

C. Mail: EPA-R03-OAR-2010-0847, Donna Mastro, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0847. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Delaware Department of Natural Resources and Environmental Control, 89 Kings Highway, P.O. Box 1401, Dover, Delaware 19903.

FOR FURTHER INFORMATION CONTACT: Gregory Becoat, (215) 814-2036, or by email at becoat.gregory@epa.gov

SUPPLEMENTARY INFORMATION: Throughout this document, whenever “we,” “us,” or “our” is used, we mean EPA.

I. What action is EPA taking?

II. What is the background for this action?

III. Description of the SIP Revisions Submitted by the State of Delaware

IV. What is EPA's evaluation of the State submittal?

V. Proposed Action

VI. Statutory and Executive Order Review

I. What action is EPA taking?

EPA is proposing to approve revisions to the Delaware SIP submitted by DNREC on April 1, 2010 and March 9, 2012, adopting the requirements of EPA's CTGs for the coating of plastic parts, metal furniture, large appliances, and miscellaneous metal parts, as RACT for these source categories. Specifically, DNREC is amending its Regulation No. 1124, Control of Volatile Organic Compounds, to incorporate the requirements of EPA's CTGs for the above mentioned source categories. CTGs are documents issued by EPA that provide guidance to States concerning what types of controls could constitute RACT for VOC from various sources, including plastic parts, metal furniture, large appliances, and miscellaneous metal parts. EPA requires all ozone nonattainment areas to update regulations for emission sources covered in an EPA CTG and to submit the regulations to EPA for approval as SIP revisions. The revisions to Delaware's Regulation 1124 include amendments to sections 2.0, “Definitions,” 12.0, “Surface Coating of Plastic Parts,” 19.0, “Coating of Metal Furniture,” 20.0, “Coating of Large Appliances,” and 22.0, “Coating of Miscellaneous Metal Parts.” These amendments will reduce the VOC content of currently regulated coatings, regulate additional coating categories, require the use of coating application equipment that provides for high transfer efficiency, and require that clean-up solvent emissions be included in regulatory applicability determinations.

II. What is the background for this action?

Section 172(c)(1) of the CAA provides that SIPs for nonattainment areas must include reasonably available control measures (RACM), including RACT for sources of emissions. Section 182(b)(2)(A) of the CAA provides that for certain nonattainment areas, states must revise their SIPs to include RACT for VOC sources covered by any CTG document issued after November 15, 1990 and prior to the area's date of attainment. Section 183(e) of the CAA provides that states may issue a CTG in lieu of a national regulation for a product category where EPA determines that a CTG will be substantially as effective as regulations in reducing emissions of VOC in ozone nonattainment areas. In developing these CTGs, EPA, among other things, evaluates the sources of VOC emissions from these categories, and the available control approaches for addressing these emissions, including the cost of such approaches. Based on available information and data, EPA provides recommendations for RACT for VOC from these categories. States can follow the CTGs and adopt State regulations to implement the recommendations contained therein, or they can adopt alternative approaches. In either case, states must submit their RACT rules to EPA for review and approval as part of the SIP process. EPA will evaluate the rules and determine, through notice and comment rulemaking in the SIP approval process, whether the submitted rules meet the RACT requirements of the CAA and EPA's regulations.

In September 2007, EPA published new CTGs for Metal Furniture Coatings (EPA-453/R-07-005) and Large Appliance Coatings (EPA 453/R-07-004). In September 2008, EPA published a new CTG for Miscellaneous Metal and Plastic Parts Coatings (EPA-453/R-08-003). These CTGs discuss the nature of VOC emissions from these industries, the available control technologies for addressing such emissions, the costs of available control options, and other information. EPA developed the new CTGs for these industries after reviewing existing state and local VOC emission reduction approaches, new source performance standards (NSPS), previously issued CTGs, and national emission standards for hazardous air pollutants (NESHAP) for these source categories.

A. Metal Furniture Coatings

Metal furniture coatings include the coatings that are applied to the surfaces of metal furniture. A metal furniture substrate is the furniture or components of furniture constructed either entirely or partially from metal. Metal furniture includes, but is not limited to, the following types of products: Household, office, institutional, laboratory, hospital, public building, restaurant, barber and beauty shop, and dental furniture, as well as components of these products. Metal furniture also includes office and store fixtures, partitions, shelving, lockers, lamps and lighting fixtures, and wastebaskets. Metal furniture coatings include paints and adhesives and are typically applied without a primer. Higher solids and powder coatings are used extensively in the metal furniture surface coating industry. Metal furniture coatings provide a covering, finish, or functional or protective layer, and can also provide a decorative finish to metal furniture.

B. Large Appliance Coatings

Large appliance coatings include, but are not limited to, materials referred to as paint, topcoats, basecoats, primers, enamels, and adhesives used in the manufacture of large appliance parts or products. A large appliance part is defined as any organic surface-coated metal lid, door, casing, panel, or other interior or exterior metal part or accessory that is assembled to form a large appliance product. A large appliance product is also defined as any organic surface-coated metal range, oven, microwave oven, refrigerator, freezer, washer, dryer, dishwasher, water heater, or trash compactor manufactured for household, commercial, or recreational use.

C. Miscellaneous Metal and Plastic Parts Coatings

Miscellaneous metal product and plastic parts surface coating categories include the coatings that are applied to the surfaces of a varied range of metal and plastic parts and products. These parts or products are constructed either entirely or partially from metal or plastic. They include, but are not limited to, metal and plastic components of the following types of products as well as the products themselves: Fabricated metal products, molded plastic parts, small and large farm machinery, commercial and industrial machinery and equipment, automotive or transportation equipment, interior or exterior automotive parts, construction equipment, motor vehicle accessories, bicycles and sporting goods, toys, recreational vehicles, pleasure craft (recreational boats), extruded aluminum structural components, railroad cars, heavier vehicles, ¹ lawn and garden equipment, business machines, laboratory and medical equipment, electronic equipment, steel drums, metal pipes, and numerous other industrial and household products (hereinafter collectively referred to as “miscellaneous metal and plastic parts.”) The CTG applies to manufacturers of miscellaneous metal and plastic parts that surface-coat the parts they produce. Miscellaneous metal products and plastic parts coatings do not include coatings that are a part of other product categories listed under section 183(e) of the CAA for which CTGs have been published or coatings addressed by other CTGs.

¹ Heavier vehicles includes all vehicles that meet the definition of the term “other motor vehicles,” as defined in the National Emission Standards for Surface Coating of Automobile and Light-Duty Trucks at 40 CFR 63.3176.

III. Description of the SIP Revisions Submitted by the State of Delaware

On April 1, 2010 and March 9, 2012 DNREC submitted SIP revisions adopting the recommendations contained in EPA's new CTGs for the control of VOC from the coating of plastic parts, metal furniture, large appliances, and miscellaneous metal parts, as RACT for these source categories. The March 9, 2012 SIP revision amended the submission of April 1, 2010 to include EPA as well as DNREC approval for any alternative coating method not explicitly specified in the regulation. The revision also corrected minor typographical errors which were non-substantive in nature. As a result of these SIP revisions, the following sections of 7 DE Administrative Code 1124, Control of Volatile Organic Compounds, are being revised to reflect Delaware's adoption of the new CTGs: section 2.0, “Definitions,” section 12.0, “Surface Coating of Plastic Parts,” section 19.0, “Coating of Metal Furniture,” section 20.0, “Coating of Large Appliances,” and section 22.0, “Coating of Miscellaneous Metal Parts.”

A. Regulation 1124, Section 2.0—Definitions

The revisions to section 2.0, “Definitions,” add the following definitions: Adhesion primer, aerosol coating product, air-dried coating, baked coating, dip coating, electric-insulating and thermal-conducting coating, electrostatic spray, extreme high-gloss coating, extreme performance coating, flow coating, hand application, heat resistant coating, high-volume, low pressure (HVLP) spray equipment, metallic coating, mold-seal coating, one-component coating, pretreatment coating, repair coating, safety-indicating coating, solar-absorbent coating, solid-film lubricant, stencil coating, touch-up coating, two-component paint, and vacuum-metalizing coating.

B. Regulation 1124, Section 12.0— Surface Coating of Plastic Parts

The revisions to section 12.0, “Surface Coating of Plastic Parts,” establish (1) Applicability for every owner or operator of any plastic parts or products coating units; (2) add, revise, and delete definitions; (3) specify standards for owners or operators of any plastic parts or products coating units; (4) specify exemptions; and (5) specify control devices, test methods, compliance certification, recordkeeping, and reporting requirements. More detailed information on these provisions can be found in the docket prepared for this rulemaking action.

Section 12.0 requires that the VOC contents of a plastic part or products coating unit subject to the provisions of this section, be less than or equal to the limits listed in Table 1 below.

Table 1—Plastic Parts Coating VOC Content Limits—VOC Content Limits Are Expressed as Mass (kg or lb) per Volume (Liter (l) or Gallon (gal)) of Coating Less Water and Exempt Compounds, as Applied
Coating category | kg VOC/l coating | lb VOC/gal coating
General*
One component coating | 0.28 | 2.3.
Multi-component coating | 0.42 | 3.5.
Electric dissipating coatings and shock-free coatings | 0.36 | 3.0.
Extreme performance | 0.42 (2 pack) | 3.5 (2 pack).
Metallic | 0.42 | 3.5.
Military specification | 0.34 (1 pack) 0.42 (2 pack) | 2.8 (1 pack) 3.5 (2 pack).
Mold-seal | 0.76 | 6.3.
Multicolored coatings | 0.68 | 5.7.
Optical coatings | 0.80 | 6.7.
Vacuum-metalizing | 0.80 | 6.7.
Business Machine Parts
Primers | 0.14 | 1.2.
Topcoat | 0.28 | 2.3.
Texture coat | 0.28 | 2.3.
Fog coat | 0.26 | 2.2.
Touchup and repair | 0.28 | 2.3.
Clearcoats | 0.28 | 2.3.
EMI/RFI coatings | 0.48 | 4.0.
Soft coatings | 0.52 | 4.3.
Plating resist coatings | 0.71 | 5.9.
Plating sensitizer coatings | 0.85 | 7.1.
Automotive/Transportation Parts
High bake coatings
Flexible primer | 0.46 | 3.8.
Non-flexible primer | 0.42 | 3.5.
Base coats | 0.52 | 4.3.
Clear coat | 0.48 | 4.0.
Non-basecoat/clear coat | 0.52 | 4.3.
Interior colorcoat | 0.49 | 4.1.
Exterior colorcoat | 0.55 | 4.6.
Low bake/air dried coatings-exterior
Primers | 0.58 | 4.8.
Basecoat | 0.60 | 5.0.
Clearcoats | 0.54 | 4.5.
Non-basecoat/clearcoat | 0.60 | 5.0.
Red and black colorcoats | 0.67 | 5.6.
All other colorcoats | 0.61 | 5.1.
Low bake/air dried coatings
Interior primers | 0.42 | 3.5.
Colorcoats | 0.38 | 3.2.
Touchup and repair coatings | 0.62 | 5.2.
Auto Specialty
Vacuum metalizing basecoats | 0.66 | 5.5.
Texture coatings | 0.66 | 5.5.
Reflective argent coatings | 0.71 | 5.9.
Soft specialty coatings | 0.71 | 5.9.
Air bag cover coatings | 0.71 | 5.9.
Gloss flatteners | 0.77 | 6.4.
Vacuum metalizing topcoats | 0.77 | 6.4.
Texture topcoats | 0.77 | 6.4.
Stencil coatings | 0.81 | 6.8.
Adhesion primers | 0.81 | 6.8.
Ink pad printing coatings | 0.81 | 6.8.
Electrostatic prep coats | 0.81 | 6.8.
Resist coatings | 0.81 | 6.8.
Headlamp lens coatings | 0.89 | 7.4.
* General refers to those parts or products which are not Business Machine Parts or Automotive/Transportation Parts.

C. Regulation 1124, Section 19.0—Coating of Metal Furniture

The revisions to section 19.0, “Coating of Metal Furniture,” establish (1) Applicability to every owner or operator of any metal furniture coating unit; (2) revise a definition; (3) specify standards for owners or operators of any metal furniture coating unit; (4) specify exemptions; and (5) specify control devices, test methods, compliance certification, recordkeeping, and reporting requirements. More detailed information on these provisions can be found in the docket prepared for this rulemaking.

Section 19.0 of this regulation requires that the VOC content of a metal furniture coating unit subject to the provisions of this section, be less than or equal to the limits listed in Table 2 below.

Table 2—Metal Furniture Coating VOC Content Limits—VOC Content Limits Are Expressed as Mass (kg or lb) per Volume (l or gal) of Coating Less Water and Exempt Compounds, as Applied
Coating category | Baked: kg VOC/l coating | Baked: lb VOC/gal coating | Air dried: kg VOC/l coating | Air dried: lb VOC/gal coating
General, one-component | 0.275 | 2.3 | 0.275 | 2.3
General, multi-component | 0.275 | 2.3 | 0.340 | 2.8
Extreme high-gloss | 0.360 | 3.0 | 0.340 | 2.8
Extreme performance | 0.360 | 3.0 | 0.420 | 3.5
Heat-resistant | 0.360 | 3.0 | 0.420 | 3.5
Metallic | 0.420 | 3.5 | 0.420 | 3.5
Pretreatment | 0.420 | 3.5 | 0.420 | 3.5
Solar-absorbent | 0.360 | 3.0 | 0.420 | 3.5

D. Regulation 1124, Section 20.0—Coating of Large Appliances

The revisions to section 20.0, “Coating of Large Appliances,” establish (1) Applicability to every owner or operator of any large appliance coating unit; (2) revise a definition; (3) specify standards for owners or operators of any large appliance coating unit; (4) specify exemptions; and (5) specify control devices, test methods, compliance certification, recordkeeping, and reporting requirements. More detailed information on these provisions can be found in the docket prepared for this rulemaking action.

Section 20.0 of this regulation requires that the VOC content of a large appliance coating unit subject to the provisions of this section, be less than or equal to the limits listed in Table 3 below.

Table 3—Large Appliance Coating VOC Content Limits—VOC Coating Content Limits Are Expressed as Mass (kg or lb) per Volume (l or gal) of Coating Less Water and Exempt Compounds, as Applied
Coating category | Baked: kg VOC/l coating | Baked: lb VOC/gal coating | Air dried: kg VOC/l coating | Air dried: lb VOC/gal coating
General, one-component | 0.275 | 2.3 | 0.275 | 2.3
General, multi-component | 0.275 | 2.3 | 0.340 | 2.8
Extreme high-gloss | 0.360 | 3.0 | 0.340 | 2.8
Extreme performance | 0.360 | 3.0 | 0.420 | 3.5
Heat-resistant | 0.360 | 3.0 | 0.420 | 3.5
Metallic | 0.420 | 3.5 | 0.420 | 3.5
Pretreatment | 0.420 | 3.5 | 0.420 | 3.5
Solar-absorbent | 0.360 | 3.0 | 0.420 | 3.5

E. Regulation 1124, Section 22.0—Coating of Miscellaneous Metal Parts

The revisions to section 22.0, “Coating of Miscellaneous Metal Parts,” establish (1) Applicability to every owner or operator of any miscellaneous metal parts and products coating unit; (2) add, revise, and delete definitions; (3) specify standards for owners or operators of any miscellaneous metal parts and products coating unit; (4) specify exemptions; and (5) specify control devices, test methods, compliance certification, recordkeeping, and reporting requirements. More detailed information on these provisions can be found in the docket prepared for this rulemaking action.

Section 22.0 of this regulation requires that the VOC content of a miscellaneous metal parts and products coating unit subject to the provisions of this section, be less than or equal to the limits listed in Table 4 below.

Table 4—Metal Parts and Products Coating VOC Content Limits—VOC Coating Content Limits Are Expressed as Mass (kg or lb) per Volume (l or gal) of Coating Less Water and Exempt Compounds, as Applied
Coating category | Air dried: kg VOC/l coating | Air dried: lb VOC/gal coating | Baked: kg VOC/l coating | Baked: lb VOC/gal coating
General, one-component | 0.34 | 2.8 | 0.28 | 2.3
General, multi-component | 0.34 | 2.8 | 0.28 | 2.3
Camouflage | 0.42 | 3.5 | 0.36 | 3.0
Electric insulating varnish | 0.42 | 3.5 | 0.36 | 3.0
Electric insulating and thermal conducting coatings | 0.42 | 3.5 | 0.36 | 3.0
Etching filler | 0.42 | 3.5 | 0.36 | 3.0
Extreme high gloss | 0.42 | 3.5 | 0.36 | 3.0
Extreme performance | 0.42 | 3.5 | 0.36 | 3.0
Heat resistant | 0.42 | 3.5 | 0.36 | 3.0
High performance architectural | 0.42 | 3.5 | 0.36 | 3.0
High temperature | 0.42 | 3.5 | 0.36 | 3.0
Magnetic data storage disc coatings | 0.42 | 3.5 | 0.36 | 3.0
Metallic | 0.42 | 3.5 | 0.36 | 3.0
Military specification | 0.34 | 2.8 | 0.28 | 2.3
Mold seal | 0.42 | 3.5 | 0.36 | 3.0
Pan Backing | 0.42 | 3.5 | 0.36 | 3.0
Prefabricated architectural multi-component | 0.42 | 3.5 | 0.28 | 2.3
Prefabricated architectural one component | 0.42 | 3.5 | 0.28 | 2.3
Pretreatment coatings | 0.42 | 3.5 | 0.36 | 3.0
Repair and touch up | 0.42 | 3.5 | 0.36 | 3.0
Safety indicating coatings | 0.42 | 3.5 | 0.36 | 3.0
Silicone release | 0.42 | 3.5 | 0.42 | 3.5
Solar absorbent | 0.42 | 3.5 | 0.36 | 3.0
Solid-film lubricant | 0.42 | 3.5 | 0.36 | 3.0
Stencil coatings | 0.42 | 3.5 | 0.36 | 3.0
Vacuum metalizing | 0.42 | 3.5 | 0.42 | 3.5
Drum coating, new, exterior | 0.34 | 2.8 | 0.34 | 2.8
Drum coating, new, interior | 0.42 | 3.5 | 0.42 | 3.5
Drum coating, reconditioned, exterior | 0.42 | 3.5 | 0.36 | 3.0
Drum coating, reconditioned, interior | 0.50 | 4.2 | 0.50 | 4.2

V. Proposed Action

EPA is proposing to approve the State of Delaware's SIP revisions submitted on April 1, 2010 and March 9, 2012, adopting the requirements of EPA's CTGs for the coating of plastic parts, metal furniture, large appliances, and miscellaneous metal parts, as RACT for these source categories. EPA is soliciting public comments on the issues discussed in this document. These comments will be considered before taking final action.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to Delaware's adoption of EPA's CTGs for the coating of plastic parts, metal furniture, large appliances, and miscellaneous metal parts, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Ozone, Reporting and recordkeeping requirements, Volatile organic compounds.

Authority: 42 U.S.C. 7401 et seq.

Dated: June 26, 2012.
W.C. Early,
Acting Regional Administrator, Region III.

[FR Doc. 2012-16950 Filed 7-12-12; 8:45 am]

BILLING CODE 6560-50-P